DEPARTMENT OF COMMERCE

National Oceanic and Atmospheric Administration

50 CFR Part 679

[Docket No. 0906261095-1050-02]

RIN 0648-AX97

Fisheries of the Exclusive Economic Zone off Alaska; Western Alaska Community Development Quota Program; Recordkeeping and Reporting

AGENCY: National Marine Fisheries Service (NMFS), National Oceanic and Atmospheric Administration (NOAA), Commerce.

ACTION: Proposed rule; request for comments.

SUMMARY: NMFS proposes regulations to revise recordkeeping and reporting regulations and make other miscellaneous revisions to NOAA regulations concerning fisheries of the exclusive economic zone off Alaska. The proposed revisions would add a requirement that the Registered Crab Receiver record in eLandings the region in which the stationary floating processor is located at time of crab delivery; standardize reporting time limits for recording discard, disposition, product, and other required information in the daily fishing logbook, daily cumulative production logbook, eLandings, or the electronic logbook so that the information corresponds with fishing and processing operations; incorporate miscellaneous edits and corrections to regulatory text and tables, including standardizing the use of the terms “recording,” “submitting,” “landings,” and “landing;” and reinstate regulations that were inadvertently removed in a previous final rule about locations where NMFS will conduct scale inspections. This proposed action is necessary to update and clarify regulations and is intended to promote the goals and objectives of the fishery management plans and the Magnuson-Stevens Fishery Conservation and Management Act and other applicable laws.

DATES: Comments must be received no later than March 14, 2011.

ADDRESSES: Send comments to Sue Salveson, Assistant Regional Administrator, Sustainable Fisheries Division, Alaska Region, NMFS, Attn: Ellen Sebastian. You may submit comments, identified by 0648-AX97, by any one of the following methods:

• Electronic Submissions: Submit all electronic public comments via the Federal eRulemaking Portal at http://www.regulations.gov.

• Fax: 907-586-7557.

• Mail: P.O. Box 21668, Juneau, AK 99802.

• Hand delivery to the Federal Building: 709 West 9th Street, Room 420A, Juneau, AK.

Instructions: No comments will be posted for public viewing until after the comment period has closed. All comments received are a part of the public record and will generally be posted to http://www.regulations.gov without change. All Personal Identifying Information (e.g., name, address) voluntarily submitted by the commenter may be publicly accessible. Do not submit Confidential Business Information or otherwise sensitive or protected information.

NMFS will accept anonymous comments (enter N/A in the required fields, if you want to remain anonymous). You may submit attachments to electronic comments in Microsoft Word, Excel, WordPerfect, or Adobe PDF file formats only.

Electronic copies of the Categorical Exclusion (CE) and Regulatory Impact Review (RIR) prepared for this action may be obtained from http://www.regulations.gov or from the Alaska Region Web site at http://alaskafisheries.noaa.gov.

Written comments regarding the burden-hour estimates or other aspects of the collection-of-information requirements contained in this rule may be submitted to NMFS at the above address; e-mailed to OIRA_Submission@omb.eop.gov or faxed to 202-395-7285.

FOR FURTHER INFORMATION CONTACT: Patsy A. Bearden, 907-586-7008.

SUPPLEMENTARY INFORMATION: NMFS manages the U.S. groundfish fisheries of the exclusive economic zone off Alaska under the Fishery Management Plan for Groundfish of the Gulf of Alaska and the Fishery Management Plan for Groundfish of the Bering Sea and Aleutian Islands Management Area. With Federal oversight, the State of Alaska manages the commercial King crab and Tanner crab fisheries under the Fishery Management Plan for Bering Sea/Aleutian Islands King and Tanner Crabs. The fishery management plans (FMPs) were prepared by the North Pacific Fishery Management Council and approved by the Secretary of Commerce under authority of the Magnuson-Stevens Fishery Conservation and Management Act, 16 U.S.C. 1801 et seq. (Magnuson-Stevens Act). The FMPs are implemented by regulations at 50 CFR parts 679 and 680.

Management of the Pacific halibut fisheries in and off Alaska is governed by an international agreement, the “Convention Between the United States of America and Canada for the Preservation of the Halibut Fishery of the Northern Pacific Ocean and Bering Sea,” (Convention) which was signed in Ottawa, Canada, on March 2, 1953, and was amended by the “Protocol Amending the Convention,” signed in Washington, DC on March 29, 1979. The Convention is implemented in the United States by the Northern Pacific Halibut Act of 1982.

Background

The Interagency Electronic Reporting System (IERS) with its data entry component, eLandings, was implemented with a final rule published March 2, 2005 (70 FR 10174), for the Crab Rationalization (CR) Program. The use of eLandings was implemented for groundfish fisheries and the fixed gear halibut and sablefish Individual Fishing Quota (IFQ) Program through a final rule published December 15, 2008 (73 FR 76136). The objective of IERS and eLandings is to remove reporting duplications and simplify recordkeeping and reporting. IERS is an Internet recordkeeping system which is currently in use by State of Alaska Department of Fish and Game (ADF&G), NMFS, and International Pacific Halibut Commission (IPHC) to collect commercial harvest and production data for groundfish, Pacific halibut, and CR crab in both State waters and in the EEZ, all with one reporting system.

The data obtained from eLandings are used during boardings and site visits by NOAA Fisheries Office for Law Enforcement (OLE) and United States Coast Guard to ensure conservation of groundfish, compliance to regulations, and reporting accuracy by industry. The data are used by the Council and NMFS Alaska Fisheries Science Center for biological and economic evaluation of management measures and stock assessment. The data are used by the NMFS Observer Program for vessel position coordinates and observer coverage information. The data are used by the NMFS Inseason Branch to monitor and manage the fisheries through openings and closures of fishery species and Federal reporting area, as well as through reallocation of quotas. Timely and accurate data entry improves in-season fishery management, resulting in fewer disruptions of the fleets and processors.

The December 15, 2008, final rule is known as the “IERS final rule” and will be referred to as such in the preamble to this proposed rule. The software, eLandings, replaced the Shoreside Processor Electronic Logbook Report for electronically entering groundfish catch information and replaced the paper shoreside processor daily cumulative production logbook (DCPL). Through eLandings, NMFS also created a landing report, discard and disposition report, and production report, thus removing the need for the paper weekly production reports, daily production reports, and aggregated mothership fish tickets.

The eLandings program allows shoreside processors, stationary floating processors (SFPs), catcher/processors, and motherships to enter, edit, and summarize landings, production, discard, and disposition data on a Web-based system. After data are entered through the Web interface, catch and production records are available in near real-time for managers Once data are entered and submitted, users receive a printed production report, fish ticket, and/or an IFQ report as a receipt.

The ability to view and edit data over the Web is a benefit to processing firms that may be based, for example, in Seattle, Washington, with operating plants in multiple locations in and/or off Alaska. Data can be entered at a processing plant in Dutch Harbor, for example, and be instantaneously available for review by employees of the plant's parent company in its Seattle office.

The operators of catcher/processors (C/Ps) and motherships are required to use a combination of eLandings and a catcher/processor DCPL or mothership DCPL, as appropriate, to record fishery information. NMFS has identified minor regulatory changes to improve and update the methods and procedures of eLandings, and to improve the flexibility and efficiency of recordkeeping and reporting requirements for the fishery programs of NMFS' Alaska Region. The amendments to the eLandings procedures and corresponding regulations are described in this proposed rule.

With these amendments, NMFS intends to remove inconsistencies in the current regulations describing eLandings and to provide new language for recent developments. These changes would reduce the risk of confusion or misinterpretation of regulatory intent among industry participants and other interested parties, and would increase the efficiency of the eLandings process. The overall impact on the fishing industry would be increased operational flexibility. No economic impacts are expected from the revisions in this proposed rule. The fishing industry currently uses eLandings to comply with recordkeeping and reporting requirements, so the time and knowledge required to complete an eLandings data entry is already established. The entities upon which these changes are imposed are those registered to use eLandings.

This proposed action would create no new costs for NMFS because the costs of implementation were previously incurred under existing data collection programs. Administrative costs for NMFS would be reduced by streamlining the administrative process with no appreciable loss of necessary data or management capabilities. Automated checks in the submission system would monitor data entry for completeness.

Registered Crab Receiver (RCR) Would Record the Region in Which the Stationary Floating Processor (SFP) Is Located at Time of Crab Delivery

Monitoring compliance with the CR Program requires precise information about the port and/or region in which raw crab are received from the harvesting vessel. Current reporting requirements for SFPs do not require use of either actual port codes or geographic locations for landings. Consequently, NMFS cannot fully monitor compliance with regional delivery requirements or fully evaluate effectiveness of these provisions in protecting communities for which these requirements were developed. A minor reporting change would provide NMFS with all three of the pieces of information it requires from SFP operations: Operation type, the actual port (if any), and the region relevant to each crab fishery for which a landing is reported. The change would provide NMFS with more precise information of the port location of landings. Benefits of the change would include enhanced information about port use during crab fisheries and stronger regulatory enforcement.

The regional delivery requirements for CR Program quota share are intended to preserve the historic geographic distribution of landings in the fisheries. Communities in the Pribilof Islands and on Adak and Atka Islands are the primary beneficiaries of this regionalization provision. There are three regions; the North Region is the Bering Sea subarea north of 56°20′ N. latitude; the South Region is any area in Alaska, not in the “North Region;” and the West Region is west of 174° W. longitude and is only applicable for western Aleutian Islands golden king crab.

Although this rule would require processors to supply additional location information, regional location choices would be easily selected from pop-up menus. Under this proposed rule, for SFP operation types only (Table 14c to part 679), eLandings would “auto-fill” the port data field with the current SFP information obtained from current RCR permits and eLandings processor registrations (see § 679.5(e)(2)). For RCRs reporting crab landings as SFPs in port, the at-sea operation type would be entered automatically; the RCR would select the port code from a menu provided by the software. For RCRs reporting crab landings as SFPs that are not in a port, the at-sea operation type would be entered automatically and the RCR would select the regional landing code from a menu provided by the software. The revisions at § 679.5(e)(4) and § 679.5(e)(8)(iii) would provide NMFS with all three pieces of information it requires from SFP operations: Operation type, the actual port (if any), and the region relevant to each crab fishery for which a landing is reported.

Standardize Data Entry Time Limits for Recording Discard, Disposition, Product, and Other Required Information

This proposed rule would revise regulations related to time and time limits, as follows:

♢ Time limits for recording information in the paper catcher vessel daily fishing logbooks (DFLs) and mothership and C/P DCPLs.

♢ Time limits to submit landing reports and production reports to NMFS through eLandings.

♢ Time limits to submit electronic logbook (ELB) information through eLandings.

♢ Revise information to be recorded or submitted “by noon of the following day” to read “by midnight of the following day”.

♢ Revise “noon” and “midnight” in Alaska local time (A.l.t.) to read 1200 hours, A.l.t., and 2400 hours, A.l.t., respectively.

♢ Change the deadline for a vessel operator's signature entry in the DFLs, DCPLs, and ELBs from noon to midnight.

♢ Revise the deadline for printing a copy of the ELB logsheet from noon to midnight each day.

♢ Revise the submittal time limit for the delivery “landed scale weight” entry on SSP or SFP eLandings landing reports.

♢ Revise the time limit to record scale weights in the DCPL for C/Ps participating in the Central Gulf of Alaska Rockfish Program.

♢ Revise deadlines for recording scale weights and CDQ group number in the C/P trawl DCPL.

♢ Remove the requirement to record the date of landing in the SSP or SFP landing report.

♢ Clarify extension of time limits for eLandings production reports from SSPs or SFPs not taking deliveries over the weekend.

♢ Correct reporting time limit tables for DCPLs and eLandings.

Regulations governing these recording and submittal time limits may be found in the following paragraphs of 50 CFR part 679:

Reporting and submittal time limits for: | Location in part 679:
Longline and pot catcher vessel DFL | § 679.5(c)(3)(ii)(A)
Longline and pot C/P DCPL | § 679.5(c)(3)(ii)(B) and (c)(4)(v)(C)
Trawl catcher vessel DFL | § 679.5(c)(4)(ii)(A)
Trawl C/P DCPL | § 679.5(c)(4)(ii)(B)
Mothership DCPL | § 679.5(c)(6)(ii)
SSP or SFP landing report | § 679.5(e)(5)(ii)
C/P or mothership production report | § 679.5(e)(10)(iv)
Electronic logbooks | § 679.5(f)(2)(iii)(B)

NMFS received a public comment on the IERS supplemental proposed rule (75 FR 55368; September 24, 2008) regarding the time limit to submit an eLandings C/P production report. The commenter wrote that the proposed deadline of noon each day to record the previous day's discard and disposition information did not provide enough time for the vessel operator to obtain from the observer information needed to submit the report, especially for catch brought onboard the vessel immediately before midnight. He requested that NMFS change the deadline to increase the time allowed to record the previous day's discard and disposition information. NMFS agreed with this comment. In the IERS final rule, NMFS revised regulations at § 679.5(c)(3) and (c)(4) for trawl, longline, or pot C/Ps to change the data entry time limit for discard and disposition information in the eLandings production report from noon to midnight each day to record the previous day's information.

Regulations that require information to be recorded or submitted “by noon of the following day” would be revised to read “by midnight of the following day” in the DFL and DCPL. Operators of C/Ps or motherships would be required to submit their eLandings production reports by midnight each day to record the previous day's production information. For example, a C/P would submit a production report by midnight on November 2 that detailed production occurring on November 1.

After publication of the IERS final rule, industry representatives asked NMFS to change time limits for other data submitted by C/Ps and motherships. Because NMFS agrees that the deadlines for recording and submitting information should be consistent in 50 CFR part 679, NMFS proposes to revise the data entry deadlines for DFLs, DCPLs, ELBs, and eLandings. For additional time reference consistency, NMFS would revise references to “noon” and “midnight” in § 679.5 to the corresponding 24-hour clock reference in Alaska local time (A.l.t.). Noon would be changed to 1200 hours, A.l.t., and midnight would be changed to 2400 hours, A.l.t.

The deadlines for recording information in the ELBs should be consistent with the deadlines for recording the same information in the DFLs and DCPLs. Therefore, NMFS would revise the ELB regulations at § 679.5(f)(2)(iii)(B) to refer to the paragraphs in § 679.5(c) that contain the time limits for recording information in the DFLs and DCPLs.

In addition, NMFS would change the deadline for a vessel operator's signature in the DFLs, DCPLs, and ELBs from noon to midnight because the logsheets should not be signed until all required information has been recorded.

The deadline for printing a copy of the ELB logsheet also would be revised to midnight each day so that the logsheets are not printed before all the information required to be recorded for the day has been recorded.

NMFS would revise the submittal time limits for SSP or SFP eLandings landing reports. All the information in the landing report currently is required to be submitted by noon of the day following completion of the delivery. This rule would revise the submittal time limit for the “landed scale weight” of the delivery. Submission of estimated weights could be submitted by the manager if the actual landed scale weight is not available by noon of the day following completion of the delivery. NMFS would allow the SSP or SFP manager to submit a revised landing report with the actual landed scale weights by noon of the third day after completion of the delivery. NMFS would provide this additional time because it sometimes takes longer than a day to weigh all catch from a delivery.

In addition to revisions to the submittal time limits, the proposed rule would remove the requirement at § 679.5(e)(5)(i)(B)(1) to record the date of landing in the SSP or SFP landing report, because this information already is required in the landing report under § 679.5(e)(5)(i)(A)(5). The proposed rule also would remove the requirement at § 679.5(e)(5)(i)(A)(11) to submit the “total estimated hail weight” on the landing report. The “hail weight” is an estimate of the total weight of the entire catch in a delivery without regard to species. The landing report requires the submission of either estimated or landed scale weight for each species. An estimate of the total weight of all catch in the delivery is not needed on the landing report and is not currently included in the eLandings data entry screens for the landing report, so the requirement would be removed from § 679.5.

NMFS would revise the time limits for recording information about the scale weight of a haul and the Community Development Quota (CDQ) group number in the C/P trawl and mothership DCPLs in response to a comment received on the proposed rule for Amendment 91 to the Fishery Management Plan (75 FR 14016; March 23, 2010). Five of the six CDQ groups and the At-Sea Processors Association commented that current regulations require operators of trawl C/Ps to record the scale weight for the haul and the CDQ group number within 2 hours after completion of gear retrieval. However, they noted that it is unlikely that all the catch from a haul will be weighed within 2 hours of gear retrieval. Catch is often held in tanks for several hours after the gear is retrieved before weighing and processing. In addition, vessel operators and CDQ group representatives need haul weight and catch composition before deciding whether to assign the haul to the CDQ group or to the non-CDQ fisheries. They recommended that the time limit for recording scale weight and CDQ group number should be changed to within 2 hours after the completion of weighing of the catch from the haul. That period would provide adequate time for the crew to safely move the fish across the scale and reduce pressure on the observer, who must simultaneously monitor the haul and complete other sampling duties. NMFS agrees with this recommendation because the time for completion of weighing of the catch from each haul is available from two sources. The observer records the time of completion of catch weighing of each haul. In addition, the daily printout from the at-sea scales shows date and time.

BSAI Amendment 91 was published August 30, 2010 (75 FR 53026). That final rule applied to participants in the pollock (Theragra chalcogramma) fishery in the Bering Sea subarea of the BSAI. NMFS changed the time limit in the Amendment 91 final rule for operators of catcher/processors, catcher vessels delivering to motherships, and motherships to record the CDQ group number in the paper or electronic logbooks to within 2 hours after completion of weighing on the scale all catch in the haul.

This current rule proposes to revise and standardize reporting time limits for recording scale weights of each haul and other required information; these requirements affect more vessels than those regulated under Amendment 91. This rule proposes to revise the time limit for recording scale weight and CDQ group number to within 2 hours after the completion of weighing of the catch from the haul.

In addition, NMFS would revise the time limit to record scale weights in the DCPL within 24 hours after completion of gear retrieval for C/Ps participating in the Central Gulf of Alaska Rockfish Program. That time limit was implemented in the IERS final rule to provide sufficient time for the vessel operator to weigh all the catch in a haul before recording the weight in the DCPL. However, NMFS believes that requiring recording of scale weights within 2 hours after the completion of weighing all catch in the haul would provide sufficient recording time for all C/Ps, including those participating in the Rockfish Program.

The submittal time limits for eLandings production reports that allow SSPs or SFPs not taking deliveries over a weekend to submit production reports by noon the following Monday would be clarified to state that this allowance applies to submitting production reports from Saturday or Sunday only.

The reporting time limit tables for C/P and mothership DCPLs and eLandings in §§ 679.5(c)(3)(ii)(B), 679.5(c)(4)(ii)(B), and 679.5(c)(6)(ii) would be revised to remove the “X” in the column titled “Submit via eLandings” for information that is not required to be submitted via eLandings. This includes the “X” in the rows of the tables associated with information required to be submitted within 2 hours, “all other required information,” and signatures on the logsheets.

Miscellaneous Proposed Revisions

NMFS proposes several revisions and edits to the regulations at 50 CFR part 679 that would correct miscellaneous errors, standardize text, reorganize eLandings text, remove outdated text, and correct cross references. Most of these proposed measures are technical in nature.

Standardize Certain Terms To Report Groundfish Catch in Logbooks and eLandings

Recording data in a vessel logbook is procedurally different from submitting data through eLandings. This rule would standardize certain terms used to describe data entry of groundfish catch in vessel logbooks and eLandings to make the regulations easier for the public to understand. Motherships and C/Ps are required to use a combination of DCPL and eLandings to record fisheries information. SSPs and SFPs are required to use eLandings to record fisheries information. In regulatory text, NMFS would use the word “record” or “recording” when referring to entering data in a DFL or DCPL, because data are written or entered into the logbook by hand. NMFS would use the term “submit” for entering information into eLandings, because eLandings records and transmits the data to NMFS. For the combined activity of recording in the DCPL and submitting data through eLandings, NMFS would use the term “reporting.” Revisions to these terms would be made in numerous locations in §§ 679.5(c) and 679.5(e).

This rule would standardize the use of the terms “landings” and “landing” in numerous locations in § 679.5 because these two terms are inconsistently used in current regulations. This rule would revise regulatory text to use the correct form of the term. When used as a noun, the term “landings” would be used. When used as an adjective, the term “landing” would be used.

Crew and Observer Information

To resolve an inadvertent omission in the eLandings regulations, proposed paragraph 679.5(e)(8)(iii)(D) would be added. NMFS would require that the RCR record the number of crew aboard a vessel and observer information on the crab landings report. This information was not included in the IERS final rule, but these are not new data elements. This information is currently required in the DCPLs and on the eLandings data entry screen.

Revise IFQ Manual Landing Report Heading

This rule would revise the heading for § 679.5(e)(1)(iii) from “Reporting of IFQ crab, IFQ halibut, and IFQ sablefish” to “IFQ manual landing report” because it would improve the description of that section.

eLandings Processor Registration

This proposed rule would revise § 679.5(e)(2)(ii) regarding the eLandings User Agreement Form. This rule would remove detailed NMFS mail, fax, and delivery addresses and replace them with one paragraph stating that the form must be submitted in accordance with instructions on the form.

Text Clarification Registered Buyer Landing Report

Paragraph 679.5(e)(7)(iii)(C) for a Registered Buyer landing report would be revised to simplify the text by removing “a completed IFQ landing report” and replacing it with “an IFQ landing report” and by removing “as described in this paragraph (e)(7)” and replacing it with “containing the information described in this paragraph (e)(7).”

Printing and Inspection of Landing Reports, Landing Receipts, and Production Reports

Paragraphs 679.5(e)(11) and (12) would be revised so that both paragraphs refer to the documents using the document names used elsewhere in § 679.5 and in the same order in both paragraphs. These paragraphs describe the printing, retention, and inspection of landing reports, landing receipts, and production reports. The documents, which must be printed, are the same documents that must be retained and made available for inspection. Revising the regulations to use consistent terms in the same order would enhance compliance with the requirements by making them easier to understand.

Scale Inspection Locations

This proposed rule would reinstate regulations about the location where scale inspections would occur under § 679.28(b)(2)(v). This paragraph would state that scales inspections by inspectors paid by NMFS will be conducted on vessels tied up at docks in Kodiak, Alaska; Dutch Harbor, Alaska; and in the Puget Sound area of Washington State. This paragraph was inadvertently removed from § 679.28 in the IERS final rule.

Changes to Tables

This rule would modify several regulatory tables. These modifications do not change the regulatory requirements or impose costs on entities.

Table 1a to part 679 describes delivery condition and product codes. This action would add a footnote to define “delivery condition.” “Delivery condition” would be defined as the condition of the fish or shellfish at the point it is weighed and recorded on the ADF&G fish ticket.

Table 1b to part 679 describes discard and disposition codes. This rule would revise Table 1b by adding a footnote to define “disposition code.” Disposition would be the intended use or disposal of the fish or shellfish.

This action would revise or add several species codes.

Tables 2a and 2d to part 679 currently describe species codes for FMP species and species codes for non-FMP species, respectively. Bering flounder, Hippoglossoides robustus, (species code 116) would be moved from Table 2d to Table 2a to part 679 because this species is managed under a Fishery Management Plan as part of the “other flatfish” group and therefore qualifies as an “FMP groundfish.”

This action would provide separate species codes for Arrowtooth flounder, Atheresthes stomias, and for Kamchatka founder, Atheresthes evermanni. Arrowtooth flounder/Kamchatka flounder have been combined under the species code 121, because they are very similar in appearance, difficult to identify to species, and few Kamchatka flounder have been harvested until recent years. Separate species codes are necessary to allow proper reporting of the catch of these two species. As increasing amounts of Kamchatka flounder are harvested, observers and industry members are increasing efforts to identify and report the separate species. Arrowtooth flounder and Kamchatka flounder have been combined in Table 2a to part 679 under the species code 121. This action would add a new species code, 117, for Kamchatka flounder to Table 2a to part 679 and would revise the definition of species code 121 in this table to mean only Arrowtooth flounder.

Table 3 to part 679 describes product recovery rates (PRRs) for groundfish species and conversion rates for Pacific halibut. Standard (or average) PRRs are used to calculate round weight equivalents for each groundfish species and product combination from a given product. The proposed rule would make these minor revisions to Table 3 to part 679:

• Remove obsolete product codes, 2 and 42.

• Replace species codes for skates and sharks with dashes (- - -), because there are several individual species codes for these species and these PRRs apply to all of them.

Table 10 to part 679 describes Gulf of Alaska (GOA) retainable percentages. This action would make minor revisions to two footnotes. In Footnote 4, this rule would correct the spelling for the Latin term for Northern rockfish to read S. polyspinis. In Footnote 6, this rule would remove text that duplicates requirements described at § 679.20(j). Duplicative text within regulations can promote confusion if differences occur, and a table is not a suitable location for regulatory requirements. In Footnote 10, which lists aggregated forage species, the entry for Pacific herring (family Clupeidae) would be removed as it was incorrectly placed there. Pacific herring is not a forage fish.

Table 21 to part 679 describes the eligible GOA communities, the halibut IFQ regulatory use areas, and the community governing body that recommends the community quota entity. This rule would correct the spelling for the name of one of the communities listed in Table 21. The spelling of Port Lyons would be corrected to read Port Lions, for both the eligible community and the governing body.

Classification

Pursuant to section 305(d) of the Magnuson-Stevens Act, the NMFS Assistant Administrator has determined that this proposed rule is consistent with the provisions of the Magnuson-Stevens Act and other applicable law, subject to further consideration after public comment.

The Chief Counsel for Regulation of the Department of Commerce certified to the Chief Counsel for Advocacy of the Small Business Administration that this proposed rule, if adopted, would not have a significant economic impact on a substantial number of small entities.

Factual Basis for Certification

Estimate of Economic Impact on Small Entities by Entity Size and Industry

NMFS does not expect this action to have a significant economic impact on a substantial number of small entities. None of the six components of this action are expected to impose more than de minimus costs on directly regulated entities of any size. The RIR prepared for this action provides detailed analyses of each component. Details of each of the components are presented in the preamble. In summary:

Component 1 revises regulations to standardize language between logbooks and the eLandings system. While this component should make regulations easier for the public to use, it does not add to or subtract from the regulations applying to regulated entities, and creates no costs for them.

Component 2 standardizes data entry time limits for recording information in the DFL, the DCPL, eLandings, and electronic logbooks. Standardizing data entry and submission time limits would not impose any additional costs on industry and may reduce costs by reducing the number of different daily deadlines that apply to entry of data into the logbooks.

Component 3 standardizes the use of the terms “landings” and “landing.” This action makes regulations easier to understand, does not restrict the behavior of the public, and imposes no costs on the public.

Component 4 requires the RCR to record in eLandings the region in which the SFP is located at the time of crab delivery. This information would assist NMFS in monitoring regional delivery requirements incorporated into the CR Program to protect rural areas. The costs of complying with this regulation would be de minimus.

Component 5 revises regulations to correct minor problems. These changes would clarify the text of the regulations, reinstate regulations that were incorrectly removed, and ensure the regulations accurately describe eLandings procedures. NMFS now requires processors to use eLandings instead of DCPLs to enter much of the required data. In one instance, eLandings regulations would be modified to add information on crew and observers that has long been required in the DCPL regulations, was included in the eLandings software, but was inadvertently omitted from the eLandings regulations. Crew information is required in the longline or pot gear DCPL at § 679.5(c)(3)(v)(F), and observer information is required at § 679.5(c)(3)(v)(I). Crew information is required in the trawl gear DCPL at § 679.5(c)(4)(v)(G), and observer information is required at 679.5(c)(4)(v)(J). Crew information is required in the mothership DCPL at § 679.5(c)(6)(v)(E), and observer information is required at 679.5(c)(6)(v)(I). Because the crew and observer information is already required in the DCPLs, requiring data entry of the same information into eLandings instead of the DCPLs would not require increased burden to provide the information. This component imposes no increased cost for entities, and may in fact reduce the burden.

Component 6 modifies regulatory tables to clarify them. These changes do not add to or subtract from the regulatory requirements imposed on entities; nor do they impose costs on entities.

Description and Estimate of the Number of Small Entities To Which the Rule Applies

This action directly regulates entities that are required to use the eLandings system for reporting landings. These entities are diverse, and include groundfish C/Ps, groundfish motherships, groundfish SFPs, groundfish SSPs, CDQ groups, CR Program RCRs, CR Program C/Ps, and halibut and sablefish IFQ Program Registered Buyers. In 2009, there were 205 registered eLandings users.

NMFS estimates that this action may directly regulate the following numbers of potential small entity eLandings users:

• Groundfish C/Ps. In 2008, 86 vessels were registered as groundfish C/Ps. Only 11 of these had gross revenues less than or equal to $4 million. An examination of these indicated that five had affiliations that would make them large entities. Thus, there were perhaps six small C/Ps. This number may actually be smaller if there are relevant affiliations between these and other firms of which NMFS is unaware.

• Groundfish motherships. In recent years, there have been three active groundfish motherships. These are considered to be large entities, due to their affiliations with American Fisheries Act cooperatives.

• Groundfish SFPs: In 2008, nine firms apparently operated permitted SFPs. Based on a staff review of the firms registered as primary owners, NMFS estimates that five of these may have been small entities. This number may actually be smaller, if there are relevant affiliations between these and other firms of which NMFS is unaware.

• Groundfish SSPs: In 2008, an estimated 80 separate firms held Federal processor permits allowing them to process groundfish. Based on NMFS' review of a list of the permitted processors, 72 of these are estimated to be small entities. The number of small entities may actually be smaller, if there are relevant affiliations between these and other firms of which NMFS is unaware.

• CDQ groups: There are six CDQ groups. These are non-profit organizations and are considered small entities for the purpose of a regulatory flexibility analysis.

• CR Program RCRs: NMFS Alaska Region Restricted Access Management (RAM) records show 20 separate firms with RCR permits for the 2008-2009 season. Based on NMFS' examination of the list, NMFS estimates that 13 of these are small entities. The number of small entities may actually be smaller if there are relevant affiliations between these and other firms of which NMFS is unaware.

• CR Program C/Ps: NMFS has identified five crab C/Ps in 2009. NMFS cannot report the numbers of large and small C/Ps, because of confidentiality regulations (50 CFR 600.405).

• Halibut and sablefish IFQ Program: Registered Buyers must report electronically, but they may use eLandings or another, older NMFS electronic reporting system to report halibut and sablefish IFQ data. In 2009, NMFS identified 462 distinct Registered Buyers. Most of these 462 Registered Buyers are small entities. In 2010, NMFS identified 157 distinct Registered Buyers registered to use eLandings.

Given the criteria governing the use of the word “substantial,” these estimates of small entity numbers indicate that this action could directly regulate substantial numbers of small entities.

Criteria Used To Evaluate Whether the Rule Would Impose Significant Economic Impacts

Pursuant to NMFS' guidelines, the two criteria recommended by the Regulatory Flexibility Act to determine the significant economic impact of the action are disproportionality and profitability. The proposed action would not place a substantial number of small entities at a disadvantage relative to large entities. NMFS expects any costs to be de minimus. This action would create opportunities for some small entities to reduce their costs slightly and, thus, perhaps slightly increase their profitability. The benefit is probably proportionally greater for small entities than for large ones, but still small overall.

Criteria Used To Evaluate Whether the Rule Would Impose Impacts on a Substantial Number of Small Entities

NMFS' guidelines for economic review of regulatory actions explain that the term “substantial number” has no specific statutory definition and the criterion does not lend itself to objective standards applicable across all regulatory actions. Rather, “substantial number” depends upon the context of the action, the problem to be addressed, and the structure of the regulated industry. The Small Business Administration defines “substantial” within the context of “more than just a few” or de minimus criteria.

Description of and Basis for Assumptions Used

The estimates of the numbers of small entities that may be affected were derived from several sources. Gross revenue estimates for individual C/Ps were provided by the Alaska Fisheries Science Center. Lists of SFPs, SSPs, CDQ groups, CR Program RCRs, and IFQ Registered Buyers were obtained from lists maintained by the NMFS Alaska Region's RAM Program. The list of CR Program C/Ps was obtained from the Alaska Region's catch accounting system. Almost all data reflect 2008 conditions as reported by NMFS sources in October 2009. Identification of large entities—when gross revenues were unavailable or when determination was based on other standards—was based on NMFS Alaska Region staff knowledge of the relevant firms.

The economic analysis contained in the RIR further describes the potential economic impacts of this action. Based upon that analysis, NMFS finds that the proposed action would not have a significant economic impact on the small entities participating in these fisheries. As a result, an initial regulatory flexibility analysis is not required, and none has been prepared.

All the items included in this action would create no new costs for NMFS, because the costs of eLandings implementation have already been incurred. In fact, in addition to having more options, the industry may have fewer costs due to increased efficiency. Administrative costs for NMFS would also be reduced by streamlining the administrative process, with no appreciable loss of necessary data or management capabilities.

This proposed rule has been determined to be not significant for purposes of Executive Order 12866.

Collection-of-Information Requirements

This rule contains collection-of-information requirements subject to the Paperwork Reduction Act (PRA) and which have been approved by the Office of Management and Budget (OMB). Public reporting burden estimates per response for these requirements are listed by OMB control number.

OMB Control Number 0648-0213

Public reporting burden is estimated to average per response: 18 minutes for catcher vessel trawl gear DFL; 28 minutes for catcher vessel longline or pot gear DFL; 31 minutes for mothership DCPL; 41 minutes for catcher/processor longline or pot gear DCPL; and 30 minutes for catcher/processor trawl gear DCPL or ELB.

OMB Control Number 0648-0515

Public reporting burden is estimated to average per response: 15 minutes for eLandings application processor registration; 35 minutes for eLandings landing report; and 20 minutes for catcher/processor or mothership eLandings production report.

OMB Control Number 0648-0330

Public reporting burden is estimated to average per response: 6 minutes for inspection request for an at-sea scale.

Public reporting estimates include the time for reviewing instructions, searching existing data sources, gathering and maintaining the data needed, and completing and reviewing the collection-of-information.

Send comments on these or any other aspects of the collection-of-information to NMFS Alaska Region at the ADDRESSES above, and e-mail to OIRA_Submission@omb.eop.gov, or fax to 202-395-7285.

Notwithstanding any other provision of the law, no person is required to respond to, nor shall any person be subject to a penalty for failure to comply with, a collection-of-information subject to the requirements of the PRA, unless that collection-of-information displays a currently valid OMB Control Number.

List of Subjects in 50 CFR Part 679

Alaska, Fisheries, Recordkeeping and reporting requirements.

Dated: February 4, 2011.
Samuel D. Rauch III,
Deputy Assistant Administrator for Regulatory Programs, National Marine Fisheries Service.

For the reasons set out in the preamble, 50 CFR part 679 is proposed to be amended as follows:

PART 679—FISHERIES OF THE EXCLUSIVE ECONOMIC ZONE OFF ALASKA

1. The authority citation for part 679 continues to read as follows:

Authority: 16 U.S.C. 773 et seq.; 1801 et seq.; 3631 et seq.; Pub. L. 108-447.

2. In § 679.5,

A. Remove paragraphs (c)(3)(i)(C)(2) and (e)(5)(i)(A)(11);

B. Redesignate paragraph (c)(3)(i)(C)(1) as (c)(3)(i)(C), paragraphs (c)(4)(ii)(B)(2) through (6) as paragraphs (c)(4)(ii)(B)(3) through (7); and paragraph (e)(5)(i)(A)(12) as (e)(5)(i)(A)(11);

C. Revise paragraphs (c)(3)(ii)(A) table heading, (c)(3)(ii)(A)(2), (c)(3)(ii)(B) introductory text, (c)(3)(ii)(B) table heading, (c)(3)(ii)(B)(1), (2), (3), (4), and (5), (c)(4)(ii) heading, (c)(4)(ii)(A) table heading, (c)(4)(ii)(A)(2), (c)(4)(ii)(B) introductory text, (c)(4)(ii)(B) table heading, (c)(4)(ii)(B)(1), newly redesignated (c)(4)(ii)(B)(3) through (6), (c)(6)(ii) heading, (c)(6)(ii) introductory text, (c)(6)(ii) table heading, (c)(6)(ii)(A), (B), (C), (D), and (E), (e)(2)(ii), (e)(4), (e)(5)(i)(B), (e)(5)(ii), (e)(6)(ii), (e)(7)(iii)(C), (e)(8)(iii)(B), (e)(9)(ii), (e)(10)(iv), (e)(11)(i), (e)(12), (f)(2)(iii)(B)(1), and (f)(3)(i)(C); and

D. Add paragraphs (c)(4)(ii)(B)(2) and (e)(8)(iii)(D).

The additions and revisions read as follows:

§ 679.5 Recordkeeping and reporting (R&R).

* * * * *

(c) * * *

(3) * * *

(ii) * * *

(A) * * *

Reporting Time Limits, Catcher Vessel Longline or Pot Gear
Required information | Time limit for recording
* * * * * *
(2) Discard and disposition information | By 2400 hours, A.l.t., each day to record the previous day's discard and disposition information.
* * * * * * *

(B) Catcher/processor. The operator of a catcher/processor using longline or pot gear must record in the DCPL or submit via eLandings the information from the following table for each set within the specified time limit:

Reporting Time Limits, Catcher/Processor Longline or Pot Gear
Required information | Record in DCPL | Submit via eLandings | Time limit for reporting
(1) Set number, time and date gear set, time and date gear hauled, beginning and end positions, CDQ group number, halibut CDQ permit number, halibut IFQ permit number, sablefish IFQ permit number, crab IFQ permit number, FFP number and/or Federal crab vessel permit number (if applicable), number of pots set, and estimated total hail weight for each set | X |  | Within 2 hours after completion of gear retrieval.
(2) Discard and disposition information |  | X | By 2400 hours, A.l.t., each day to record the previous day's discard and disposition information.
(3) Product information |  | X | By 2400 hours, A.l.t., each day to record the previous day's production information.
(4) All other required information | X |  | By 2400 hours, A.l.t., of the day following completion of production.
(5) Operator sign the completed logsheets | X |  | By 2400 hours, A.l.t., of the day following the week-ending date of the weekly reporting period.
* * * * * * *

* * * * *

(4) * * *

(ii) Reporting time limits.

(A) * * *

Reporting Time Limits, Catcher Vessel Trawl Gear
Required information | Time limit for recording
* * * * * * *
(2) Discard and disposition information | By 2400 hours, A.l.t., each day to record the previous day's discard and disposition information.
* * * * * * *

(B) Catcher/processor. The operator of a catcher/processor using trawl gear must record in the DCPL or submit via eLandings the information in the following table for each haul within the specified time limit:

Reporting Time Limits, Catcher/Processor Trawl Gear
Required information | Record in DCPL | Submit via eLandings | Time limit for reporting
(1) Management program, except CDQ Program, haul number, time and date gear set, time and date gear hauled, begin and end positions of gear, and, if not required to weigh catch on a scale approved by NMFS, total estimated hail weight for each haul | X |  | Within 2 hours after completion of gear retrieval.
(2) CDQ group number (if applicable) and, if required to weigh catch on a scale approved by NMFS, the scale weight of total catch for each haul | X |  | Within 2 hours after completion of weighing all catch in the haul.
(3) Discard and disposition information |  | X | By 2400 hours, A.l.t., each day to record the previous day's discard and disposition information.
(4) Product information |  | X | By 2400 hours, A.l.t., each day to record the previous day's production information.
(5) All other required information | X |  | By 2400 hours, A.l.t., of the day following completion of production to record all other required information.
(6) Operator sign the completed logsheets | X |  | By 2400 hours, A.l.t., of the day following the week-ending date of the weekly reporting period.
* * * * * * *

* * * * *

(6) * * *

(ii) Reporting time limits. The operator of a mothership must record in the DCPL or submit via eLandings the information in the following table for each groundfish delivery within the specified time limit:

Reporting Time Limits, Mothership
Required information | Record in DCPL | Submit via eLandings | Time limit for reporting
(A) All catcher vessel or buying station delivery information | X |  | Within 2 hours after completion of receipt of each groundfish delivery.
(B) Product information |  | X | By 2400 hours, A.l.t., each day to record the previous day's production information.
(C) Discard or disposition information |  | X | By 2400 hours, A.l.t., each day to record the previous day's discard/disposition.
(D) All other required information | X |  | By 2400 hours, A.l.t., of the day following completion of production.
(E) Operator sign the completed logsheets |  |  | By 2400 hours, A.l.t., of the day following the week-ending date of the weekly reporting period.
* * * * * * *

* * * * *

* * * * *

(e) * * *

(2) * * *

(ii) Upon registration acceptance, the User must print, sign, and mail the User Agreement Form to NMFS at the address or fax number shown on the form. Confirmation will be e-mailed to indicate that the User is registered, authorized to use eLandings, and that the UserID and User's account are enabled.

* * * * *

(4) Information entered automatically for eLandings landing report. eLandings autofills the following fields from processor registration records (see paragraph (e)(2) of this section): UserID, processor company name, business telephone number, e-mail address, port of landing, operation type (for C/Ps, motherships, or SFPs), ADF&G processor code, and Federal permit number. The User must review the autofilled cells to ensure that they are accurate for the landing that is taking place. eLandings assigns a unique landing report number and an ADF&G electronic fish ticket number upon completion of data entry.

* * * * *

(5) * * *

(i) * * *

(B) Landed scale weight. The User for a SSP or SFP must record landed scale weight (to the nearest pound) for all retained species from groundfish deliveries by species code and delivery condition code. Obtain actual weights for each groundfish species received and retained by:

(1) Sorting according to species codes and direct weighing of that species, or

(2) Weighing the entire delivery and then sorting and weighing the groundfish species individually to determine their weights.

* * * * *

(ii) Submittal time limit. The User for an SSP or SFP must submit a landing report containing the information described in paragraph (e)(5)(i) of this section for each groundfish delivery from a specific vessel by 1200 hours, A.l.t., of the day following completion of the delivery. If the landed scale weight required in paragraph (e)(5)(i)(C) of this section is not available by this deadline, the User must transmit an estimated weight for each species by 1200 hours, A.l.t., of the day following completion of the delivery, and must submit a revised landing report with the landed scale weight for each species by 1200 hours, A.l.t., of the third day following completion of the delivery.

* * * * *

(6) * * *

(ii) Submittal time limit. The User for a mothership must submit a landing report containing the information described at paragraph (e)(6)(i) of this section for each groundfish delivery from a specific vessel by 2400 hours, A.l.t., of the day following the delivery.

* * * * *

(7) * * *

(iii) * * *

(C) Landing completion. The User for the Registered Buyer must submit an IFQ landing report, containing the information described in this paragraph (e)(7), within six hours after all IFQ halibut, CDQ halibut, and IFQ sablefish are offloaded from a specific vessel and prior to shipment or transfer of said fish from the landing site.

* * * * *

(8) * * *

(iii) * * *

(B) Operation type and port code. (1) If an SSP, the port code is pre-filled automatically (see § 679.5(e)(4)).

(2) If a catcher/processor, the at-sea operation type is pre-filled automatically.

(3) If an SFP and crab delivery is received in port, the at-sea operation type is pre-filled automatically (see § 679.5(e)(4)) and the User must enter the port code from Table 14a to this part.

(4) If an SFP and crab delivery is received at sea, the at-sea operation type is pre-filled automatically (see § 679.5(e)(4)) and the User must enter the appropriate crab regional designation (see § 680.40(b)(2)), shown below:

CR Crab Regional Designations
N | North Region | Landed in the Bering Sea subarea north of 56° 20′ N. lat.
S | South Region | Landed in any area in Alaska, not in the North Region.
W | West Region | West of 174° W. long. Only applicable for western Aleutian Islands golden king crab (WAG).

* * * * *

(D) Crew and observer information. (1) For crew size, enter the number of licensed crew aboard the vessel, including the operator.

(2) Number of observers aboard.

* * * * *

(9) * * *

(ii) Submittal time limits. (A) When active pursuant to paragraph (c)(5)(ii) of this section, the User for an SSP or SFP must submit a production report by 1200 hours, A.l.t., each day to record the previous day's production information.

(B) If an SSP or SFP using eLandings is not taking deliveries over a weekend, the User or manager may submit the eLandings production report from Saturday and Sunday to NMFS by 1200 hours, A.l.t., on the following Monday.

* * * * *

(10) * * *

(iv) Submittal time limits. (A) Except as described in paragraph (e)(10)(iv)(B) of this section, when a mothership is active pursuant to paragraph (c)(6)(iv) of this section, a catcher/processor longline or pot gear is active pursuant to paragraph (c)(3)(iv)(B) of this section, or a catcher/processor trawl gear is active pursuant to paragraph (c)(4)(iv)(B) of this section, the User for a mothership or catcher/processor must submit a production report by 2400 hours, A.l.t., each day to record the previous day's production information.

(B) If a vessel is required to have 100 percent observer coverage or more, the User may submit a production report for Friday, Saturday, and Sunday no later than 2400 hours, A.l.t., on the following Monday.

* * * * *

(11) Printing of landing reports, landing receipts, and production reports—(i) The User daily must print a paper copy onsite or onboard of:

(A) Each landing report.

(B) If IFQ halibut, IFQ sablefish, or CDQ halibut, each sablefish/halibut IFQ landing receipt.

(C) If IFQ crab, each crab IFQ landing receipt.

(D) Each production report.

* * * * *

(12) Retention and inspection of landing reports, landing receipts, and production reports—(i) The User daily must retain a printed paper copy onsite or onboard of:

(A) Each landing report.

(B) If IFQ halibut, IFQ sablefish, or CDQ halibut, each sablefish/halibut IFQ landing receipt.

(C) If IFQ crab, each crab IFQ landing receipt.

(D) Each production report.

(ii) The User must make available the printed copies upon request of NMFS observers and authorized officers as indicated at paragraph (a)(5) of this section.

(f) * * *

(2) * * *

(iii) * * *

(B) * * *

(1) Recording time limits. The time limits for recording applicable information in the ELBs are the same as the recording time limits for DFLs and DCPLs in paragraphs (c)(3), (c)(4), and (c)(6) of this section.

* * * * *

(3) * * *

(i) * * *

(C) Print a copy of the ELB logsheet for the observer's use, if an observer is onboard the vessel, by 2400 hours, A.l.t., each day to record the previous day's ELB information.

* * * * *

3. In § 679.28, paragraph (b)(2)(v) is revised to read as follows.

§ 679.28 Equipment and Operational Requirements.

* * * * *

(b) * * *

(2) * * *

(v) Where will scale inspections be conducted? Scales inspections by inspectors paid by NMFS will be conducted on vessels tied up at docks in Kodiak, Alaska; Dutch Harbor, Alaska; and in the Puget Sound area of Washington State.

§§ 679.5, 679.28, 679.32, 679.40, 679.41, 679.42, 679.45, 679.80, 679.90, 679.94 [Amended]

4. At each of the locations shown in the “Location” column, remove the phrase indicated in the “Remove” column and replace it with the phrase indicated in the “Add” column for the number of times indicated in the “Frequency” column.

Location | Remove | Add | Frequency
§ 679.5(c)(3)(i)(B)(2) | sablefish landings data | sablefish landing data | 1
§ 679.5(c)(3)(ii) heading | Data entry time limits | Reporting time limits | 1
§ 679.5(c)(4)(i)(B) | catch-by-haul landings information | catch-by-haul landing information | 1
§ 679.5(c)(4)(iv)(B)(2) | record in eLandings | submit in eLandings | 1
§ 679.5(c)(4)(v)(C) | noon | 2400 hours, A.l.t. | 1
§ 679.5(e)(1)(i) | landings data | landing data | 1
§ 679.5(e)(1)(iii) heading | Reporting of IFQ crab, IFQ halibut, and IFQ sablefish | IFQ manual landing report | 1
§ 679.5(e)(5) heading | SFP landings report | SFP landing report | 1
§ 679.5(e)(5) introductory text | daily landings report | daily landing report | 1
§ 679.5(e)(6) heading | Mothership landings report | Mothership landing report | 1
§ 679.5(e)(6) introductory text | daily landings report | daily landing report | 1
§ 679.5(e)(7) heading | Registered Buyer landings report | Registered Buyer landing report | 1
§ 679.5(e)(7) introductory text | landings reports | landing reports | 1
§ 679.5(e)(7)(ii)(A) and (iii)(B) | groundfish IFQ landing receipt | sablefish/halibut IFQ landing receipt | 1
§ 679.5(e)(8) heading | Registered Crab Receiver (RCR) IFQ crab landings report | Registered Crab Receiver (RCR) IFQ crab landing report | 1
§ 679.5(e)(8)(i) and (ii) | landings report | landing report | 1
§ 679.5(e)(8)(iii) | must enter the following information (see paragraphs (e)(8)(iii)(A) through (C) of this section) into eLandings | must submit information described at paragraphs (e)(8)(iii)(A) through (D) of this section into eLandings | 1
§ 679.5(e)(8)(vi)(B) | noon | 1200 hours, A.l.t | 1
§ 679.5(f)(3)(i)(A) | noon | 2400 hours, A.l.t | 1
§ 679.5(f)(4)(i) | noon | 2400 hours, A.l.t | 1
§ 679.28(d)(8)(i) introductory text, § 679.28.28(i)(3) introductory text, § 679.32(c)(1), § 679.41(m)(3) introductory text, § 679.42(d)(2)(iii) introductory text, § 679.80(e)(2), § 679.90(b)(2), § 679.90(f)(2), and § 679.94(a)(3) | http://www.fakr.noaa.gov | http://alaskafisheries.noaa.gov | 1
§ 679.40(h)(2) | groundfish IFQ landing receipt | sablefish/halibut IFQ landing receipt | 1
§ 679.45(a)(4)(iii) | http://www.fakr.noaa.gov/ram | http://alaskafisheries.noaa.gov/ram | 1

5. Table 1a to part 679 is revised to read as follows:

Table 1a to Part 679—Delivery Condition * and Product Codes
[General use codes]
Description | Code
Belly flaps. Flesh in region of pelvic and pectoral fins and behind head (ancillary only) | 19
Bled only. Throat, or isthmus, slit to allow blood to drain | 03
Bled fish destined for fish meal (includes offsite production) DO NOT RECORD ON PTR | 42
Bones (if meal, report as 32) (ancillary only) | 39
Butterfly, no backbone. Head removed, belly slit, viscera and most of backbone removed; fillets attached | 37
Cheeks. Muscles on sides of head (ancillary only) | 17
Chins. Lower jaw (mandible), muscles, and flesh (ancillary only) | 18
Fillets, deep-skin. Meat with skin, adjacent meat with silver lining, and ribs removed from sides of body behind head and in front of tail, resulting in thin fillets | 24
Fillets, skinless/boneless. Meat with both skin and ribs removed, from sides of body behind head and in front of tail | 23
Fillets with ribs, no skin. Meat with ribs with skin removed, from sides of body behind head and in front of tail | 22
Fillets with skin and ribs. Meat and skin with ribs attached, from sides of body behind head and in front of tail | 20
Fillets with skin, no ribs. Meat and skin with ribs removed, from sides of body behind head and in front of tail | 21
Fish meal. Meal from whole fish or fish parts; includes bone meal | 32
Fish oil. Rendered oil from whole fish or fish parts. Record only oil destined for sale and not oil stored or burned for fuel onboard | 33
Gutted, head on. Belly slit and viscera removed | 04
Gutted, head off. Belly slit and viscera removed. (May be used for halibut personal use) | 05
Head and gutted, with roe | 06
Headed and gutted, Western cut. Head removed just in front of the collar bone, and viscera removed | 07
Headed and gutted, Eastern cut. Head removed just behind the collar bone, and viscera removed | 08
Headed and gutted, tail removed. Head removed usually in front of collar bone, and viscera and tail removed | 10
Heads. Heads only, regardless where severed from body (ancillary only) | 16
Kirimi (Steak). Head removed either in front or behind the collar bone, viscera removed, and tail removed by cuts perpendicular to the spine, resulting in a steak | 11
Mantles, octopus or squid. Flesh after removal of viscera and arms | 36
Milt. In sacs, or testes (ancillary only) | 34
Minced. Ground flesh | 31
Other retained product. If product is not listed on this table, enter code 97 and write a description with product recovery rate next to it in parentheses | 97
Pectoral girdle. Collar bone and associated bones, cartilage and flesh | 15
Roe. Eggs, either loose or in sacs, or skeins (ancillary only) | 14
Salted and split. Head removed, belly slit, viscera removed, fillets cut from head to tail but remaining attached near tail. Product salted | 12
Stomachs. Includes all internal organs (ancillary only) | 35
Surimi. Paste from fish flesh and additives | 30
Whole fish/or shellfish/food fish | 01
Wings. On skates, side fins are cut off next to body | 13
SHELLFISH ONLY:
Soft shell crab | 75
Bitter crab | 76
Deadloss | 79
Sections | 80
Meat | 81
Note: When using whole fish code, record round weights rather than product weights, even if the whole fish is not used.
* Delivery condition code: Condition of the fish or shellfish at the point it is weighed and recorded on the ADF&G fish ticket.

6. Table 1b to part 679 is revised to read as follows:

Table 1b to Part 679—Discard and Disposition Codes ¹
Description | Code
Confiscation or seized | 63
Deadloss (crab only) | 79
Overage | 62
Retained for future sale | 87
Tagged IFQ Fish (Exempt from debit) | 64
Whole fish/bait, not sold. Used as bait onboard vessel | 92
Whole fish/bait, sold | 61
Whole fish/discard at sea. Whole groundfish and prohibited species discarded by catcher vessels, catcher/processors, motherships, or tenders. DO NOT RECORD ON PTR | 98
Whole fish/discard, damaged. Whole fish damaged by observer's sampling procedures | 93
Whole fish/discard, decomposed. Decomposed or previously discarded fish | 89
Whole fish/discard, infested. Flea-infested fish, parasite-infested fish | 88
Whole fish/discard, onshore. Discard after delivery and before processing by shoreside processors, stationary floating processors, and buying stations and in-plant discard of whole groundfish and prohibited species during processing. DO NOT RECORD ON PTR | 99
Whole fish/donated prohibited species. Number of Pacific salmon or Pacific halibut, otherwise required to be discarded, that is donated to charity under a NMFS-authorized program | 86
Whole fish/fish meal. Whole fish destined for meal (includes offsite production). DO NOT RECORD ON PTR | 41
Whole fish/personal use, consumption. Fish or fish products eaten on board or taken off the vessel for personal use. Not sold or utilized as bait | 95
Whole fish/sold, for human consumption | 60
Note: When using whole fish codes, record round weights rather than product weights, even if the whole fish is not used.
¹ Disposition Code: The intended use or disposal of the fish or shellfish.

7. Table 2a to part 679 is revised to read as follows:

Table 2a to Part 679—Species Codes: FMP Groundfish
Species description | Code
Atka mackerel (greenling) | 193
Flatfish, miscellaneous (flatfish species without separate codes) | 120
FLOUNDER:
Alaska plaice | 133
Arrowtooth | 121
Bering | 116
Kamchatka | 117
Starry | 129
Octopus, North Pacific | 870
Pacific cod | 110
Pollock | 270
ROCKFISH:
Aurora (Sebastes aurora) | 185
Black (BSAI) (S. melanops) | 142
Blackgill (S. melanostomus) | 177
Blue (BSAI) (S. mystinus) | 167
Bocaccio (S. paucispinis) | 137
Canary (S. pinniger) | 146
Chilipepper (S. goodei) | 178
China (S. nebulosus) | 149
Copper (S. caurinus) | 138
Darkblotched (S. crameri) | 159
Dusky (S. variabilis) | 172
Greenstriped (S. elongatus) | 135
Harlequin (S. variegatus) | 176
Northern (S. polyspinis) | 136
Pacific Ocean Perch (S. alutus) | 141
Pygmy (S. wilsoni) | 179
Quillback (S. maliger) | 147
Redbanded (S. babcocki) | 153
Redstripe (S. proriger) | 158
Rosethorn (S. helvomaculatus) | 150
Rougheye (S. aleutianus) | 151
Sharpchin (S. zacentrus) | 166
Shortbelly (S. jordani) | 181
Shortraker (S. borealis) | 152
Silvergray (S. brevispinis) | 157
Splitnose (S. diploproa) | 182
Stripetail (S. saxicola) | 183
Thornyhead (all Sebastolobus species) | 143
Tiger (S. nigrocinctus) | 148
Vermilion (S. miniatus) | 184
Widow (S. entomelas) | 156
Yelloweye (S. ruberrimus) | 145
Yellowmouth (S. reedi) | 175
Yellowtail (S. flavidus) | 155
Sablefish (blackcod) | 710
Sculpins | 160
SHARKS:
Other (if salmon, spiny dogfish or Pacific sleeper shark—use specific species code) | 689
Pacific sleeper | 692
Salmon | 690
Spiny dogfish | 691
SKATES:
Big | 702
Longnose | 701
Other (If longnose or big skate—use specific species code) | 700
SOLE:
Butter | 126
Dover | 124
English | 128
Flathead | 122
Petrale | 131
Rex | 125
Rock | 123
Sand | 132
Yellowfin | 127
Squid, majestic | 875
Turbot, Greenland | 134

Table 2d to Part 679—Species Codes: Non-FMP Species
General use: Species description | General use: Code
Arctic char, anadromous | 521
Dolly varden, anadromous | 531
Eels or eel-like fish | 210
Eel, wolf | 217
Greenling:
Kelp | 194
Rock | 191
Whitespot | 192
Grenadier, giant | 214
Grenadier (rattail) | 213
Jellyfish (unspecified) | 625
Lamprey, pacific | 600
Lingcod | 130
Lumpsucker | 216
Pacific flatnose | 260
Pacific hagfish | 212
Pacific hake | 112
Pacific lamprey | 600
Pacific saury | 220
Pacific tomcod | 250
Poacher (Family Algonidae) | 219
Prowfish | 215
Ratfish | 714
Rockfish, black (GOA) | 142
Rockfish, blue (GOA) | 167
Rockfish, dark | 173
Sardine, Pacific (pilchard) | 170
Sea cucumber, red | 895
Shad | 180
Skilfish | 715
Snailfish, general (genus Liparis and genus Careproctus) | 218
Sturgeon, general | 680
Wrymouths | 211
Shellfish:
Abalone, northern (pinto) | 860
Clams:
Arctic surf | 812
Cockle | 820
Eastern softshell | 842
Pacific geoduck | 815
Pacific littleneck | 840
Pacific razor | 830
Washington butter | 810
Coral | 899
Mussel, blue | 855
Oyster, Pacific | 880
Scallop, weathervane | 850
Scallop, pink (or calico) | 851
Shrimp:
Coonstripe | 864
Humpy | 963
Northern (pink) | 961
Sidestripe | 962
Spot | 965
Snails | 890
Urchin, green sea | 893
Urchin, red sea | 892

9. Table 3 to part 679 is revised to read as follows:

Table 3 to Part 679—Product Recovery Rates For Groundfish Species and Conversion Rates for Pacific Halibut
Species code | FMP species | Product code: 1, 41, 86, 92, 93, 95 Whole fish | Product code: 3 Bled | Product code: 4 Gutted head on | Product code: 5 Gutted head off | Product code: 6 H&G with Roe | Product code: 7 H&G West cut | Product code: 8 H&G East cut | Product code: 10 H&G w/o Tail | Product code: 11 Kirimi | Product code: 12 Salted & split | Product code: 13 Wings | Product code: 14 Roe
110 | Pacific Cod | 1.00 | 0.98 | 0.85 |  | 0.63 | 0.57 | 0.47 | 0.44 |  | 0.45 |  | 0.05
121 | Arrowtooth/Kamchatka | 1.00 | 0.98 | 0.90 |  | 0.80 | 0.72 | 0.65 | 0.62 | 0.48 |  |  | 0.08
122 | Flathead Sole | 1.00 | 0.98 | 0.90 |  | 0.80 | 0.72 | 0.65 | 0.62 | 0.48 |  |  | 0.08
123 | Rock Sole | 1.00 | 0.98 | 0.90 |  | 0.80 | 0.72 | 0.65 | 0.62 | 0.48 |  |  | 0.08
124 | Dover Sole | 1.00 | 0.98 | 0.90 |  | 0.80 | 0.72 | 0.65 | 0.62 | 0.48 |  |  | 0.08
125 | Rex Sole | 1.00 | 0.98 | 0.90 |  | 0.80 | 0.72 | 0.65 | 0.62 | 0.48 |  |  | 0.08
127 | Yellowfin Sole | 1.00 | 0.98 | 0.90 |  | 0.80 | 0.72 | 0.65 | 0.62 | 0.48 |  |  | 0.08
134 | Greenland Turbot | 1.00 | 0.98 | 0.90 |  | 0.80 | 0.72 | 0.65 | 0.62 | 0.48 |  |  | 0.08
143 | Thornyhead Rockfish | 1.00 | 0.98 | 0.88 |  | 0.55 | 0.60 | 0.50 |  |  |  |  |
160 | Sculpins | 1.00 | 0.98 | 0.87 |  |  | 0.50 | 0.40 |  |  |  |  |
193 | Atka Mackerel | 1.00 | 0.98 | 0.87 |  | 0.67 | 0.64 | 0.61 |  |  |  |  |
270 | Pollock | 1.00 | 0.98 | 0.80 |  | 0.70 | 0.65 | 0.56 | 0.50 | 0.25 |  |  | 0.07
510 | Smelts | 1.00 | 0.98 | 0.82 |  |  | 0.71 |  |  |  |  |  |
511 | Eulachon | 1.00 | 0.98 | 0.82 |  |  | 0.71 |  |  |  |  |  |
516 | Capelin | 1.00 | 0.98 | 0.89 |  |  | 0.78 |  |  |  |  |  |
| Sharks | 1.00 | 0.98 | 0.83 |  |  | 0.72 |  |  |  |  |  |
| Skates | 1.00 | 0.98 | 0.90 |  |  |  | 0.32 |  |  |  | 0.32 |
710 | Sablefish | 1.00 | 0.98 | 0.89 |  |  | 0.68 | 0.63 | 0.50 |  |  |  |
870 | Octopus | 1.00 | 0.98 | 0.81 |  |  |  |  |  |  |  |  |
875 | Squid | 1.00 | 0.98 | 0.69 |  |  |  |  |  |  |  |  |
| Rockfish | 1.00 | 0.98 | 0.88 |  |  | 0.60 | 0.50 |  |  |  |  |
200 | PACIFIC HALIBUT Conversion rates to Net Weight |  |  | 0.90 | 1.0 |  |  |  |  |  |  |  |

Species code | FMP species | Product code: 15 Pectoral girdle | Product code: 16 Heads | Product code: 17 Cheeks | Product code: 18 Chins | Product code: 19 Belly | Product code: 20 Fillets with skin & ribs | Product code: 21 Fillets with skin No ribs | Product code: 22 Fillets with ribs No skin | Product code: 23 Fillets skinless boneless | Product code: 24 Fillets deep skin | Product code: 30 Surimi | Product code: 31 Mince
110 | Pacific Cod | 0.05 |  | 0.05 |  | 0.01 | 0.45 | 0.35 | 0.25 | 0.25 |  | 0.15 | 0.5
121 | Arrowtooth/Kamchatka |  |  |  |  |  | 0.32 | 0.27 | 0.27 | 0.22 |  |  |
122 | Flathead Sole |  |  |  |  |  | 0.32 | 0.27 | 0.27 | 0.22 |  |  |
123 | Rock Sole |  |  |  |  |  | 0.32 | 0.27 | 0.27 | 0.22 |  |  |
124 | Dover Sole |  |  |  |  |  | 0.32 | 0.27 | 0.27 | 0.22 |  |  |
125 | Rex Sole |  |  |  |  |  | 0.32 | 0.27 | 0.27 | 0.22 |  |  |
127 | Yellowfin Sole |  |  |  |  |  | 0.32 | 0.27 | 0.27 | 0.22 |  | 0.18 |
134 | Greenland Turbot |  |  |  |  |  | 0.32 | 0.27 | 0.27 | 0.22 |  |  |
143 | Thornyhead Rockfish |  | 0.20 | 0.05 | 0.05 | 0.05 | 0.40 | 0.30 | 0.35 | 0.25 |  |  |
160 | Sculpins |  |  |  |  |  |  |  |  |  |  |  |
193 | Atka Mackerel |  |  |  |  |  |  |  |  |  |  | 0.15 |
270 | Pollock |  | 0.15 |  |  |  | 0.35 | 0.30 | 0.30 | 0.21 | 0.16 | ¹ 0.16 ² 0.17 | 0.22
510 | Smelts |  |  |  |  |  |  | 0.38 |  |  |  |  |
511 | Eulachon |  |  |  |  |  |  |  |  |  |  |  |
516 | Capelin |  |  |  |  |  |  |  |  |  |  |  |
| Sharks |  |  |  |  |  |  | 0.30 | 0.30 | 0.25 |  |  |
| Skates |  |  |  |  |  |  |  |  |  |  |  |
710 | Sablefish |  |  | 0.05 |  |  | 0.35 | 0.30 | 0.30 | 0.25 |  |  |
870 | Octopus |  |  |  |  |  |  |  |  |  |  |  |
875 | Squid |  |  |  |  |  |  |  |  |  |  |  |
| Rockfish |  | 0.15 | 0.05 | 0.05 | 0.10 | 0.40 | 0.30 | 0.33 | 0.25 |  |  |
200 | PACIFIC HALIBUT Conversion Rates to Net Weight |  |  |  |  |  |  |  |  |  |  |  |

Species code | FMP species | Product code: 32 Meal | Product code: 33 Oil | Product code: 34 Milt | Product code: 35 Stomachs | Product code: 36 Mantles | Product code: 37 Butterfly backbone removed | Product code: 88, 89 Infested or decomposed fish | Product code: 98, 99 Discards
110 | Pacific Cod | 0.17 |  |  |  |  | 0.43 | 0.00 | 1.00
121 | Arrowtooth/Kamchatka | 0.17 |  |  |  |  |  | 0.00 | 1.00
122 | Flathead Sole | 0.17 |  |  |  |  |  | 0.00 | 1.00
123 | Rock Sole | 0.17 |  |  |  |  |  | 0.00 | 1.00
124 | Dover Sole | 0.17 |  |  |  |  |  | 0.00 | 1.00
125 | Rex Sole | 0.17 |  |  |  |  |  | 0.00 | 1.00
127 | Yellowfin Sole | 0.17 |  |  |  |  |  | 0.00 | 1.00
134 | Greenland Turbot | 0.17 |  |  |  |  |  | 0.00 | 1.00
143 | Thornyhead Rockfish | 0.17 |  |  |  |  |  | 0.00 | 1.00
160 | Sculpins | 0.17 |  |  |  |  |  | 0.00 | 1.00
193 | Atka Mackerel | 0.17 |  |  |  |  |  | 0.00 | 1.00
270 | Pollock | 0.17 |  |  |  |  | 0.43 | 0.00 | 1.00
510 | Smelts | 0.17 |  |  |  |  |  | 0.00 | 1.00
511 | Eulachon | 0.17 |  |  |  |  |  | 0.00 | 1.00
516 | Capelin | 0.17 |  |  |  |  |  | 0.00 | 1.00
| Sharks | 0.17 |  |  |  |  |  | 0.00 | 1.00
| Skates | 0.17 |  |  |  |  |  | 0.00 | 1.00
710 | Sablefish | 0.17 |  |  |  |  |  | 0.00 | 1.00
870 | Octopus | 0.17 |  |  |  | 0.85 |  | 0.00 | 1.00
875 | Squid | 0.17 |  |  |  | 0.75 |  | 0.00 | 1.00
| Rockfish |  |  |  |  |  |  | 0.00 | 1.00
200 | PACIFIC HALIBUT Conversion Rates to Net Weight |  |  |  |  |  |  | 0.00 | 0.75
¹ Standard pollock surimi rate during January through June.
² Standard pollock surimi rate during July through December.
Notes: To obtain round weight of groundfish, divide the product weight of groundfish by the table PRR. To obtain IFQ net weight of Pacific halibut, multiply the product weight of halibut by the table conversion rate. To obtain round weight from net weight of Pacific halibut, divide net weight by 0.75 or multiply by 1.33333.

10. Table 10 to part 679 is revised to read as follows:

BILLING CODE 3510-22-P

BILLING CODE 3510-22-C

11. Table 21 to part 679 is revised to read as follows:

Table 21 to Part 679—Eligible GOA Communities, Halibut IFQ Regulatory Use Areas and Community Governing Body That Recommends the Community Quota Entity
Eligible GOA Community | Community Governing Body that recommends the CQE
May use halibut QS only in halibut IFQ regulatory areas 2C, 3A
Angoon | City of Angoon.
Coffman Cove | City of Coffman Cove.
Craig | City of Craig.
Edna Bay | Edna Bay Community Association.
Elfin Cove | Community of Elfin Cove.
Gustavus | Gustavus Community Association.
Hollis | Hollis Community Council.
Hoonah | City of Hoonah.
Hydaburg | City of Hydaburg.
Kake | City of Kake.
Kasaan | City of Kasaan.
Klawock | City of Klawock.
Metlakatla | Metlakatla Indian Village.
Meyers Chuck | N/A.
Pelican | City of Pelican.
Point Baker | Point Baker Community.
Port Alexander | City of Port Alexander.
Port Protection | Port Protection Community Association.
Tenakee Springs | City of Tenakee Springs.
Thorne Bay | City of Thorne Bay.
Whale Pass | Whale Pass Community Association

Eligible GOA Community | Community Governing Body that recommends the CQE
May use halibut QS only in halibut IFQ regulatory areas 3A, 3B
Akhiok | City of Akhiok.
Chenega Bay | Chenega IRA Village.
Chignik | City of Chignik.
Chignik Lagoon | Chignik Lagoon Village Council.
Chignik Lake | Chignik Lake Traditional Council.
Halibut Cove | N/A.
Ivanof Bay | Ivanof Bay Village of Council.
Karluk | Native Village of Karluk.
King Cove | City of King Cove.
Larsen Bay | City of Larsen Bay.
Nanwalek | Nanwalek IRA Council.
Old Harbor | City of Old Harbor.
Ouzinkie | City of Old Ouzinkie.
Perryville | Native Village of Perryville.
Port Graham | Port Graham Village Council.
Port Lions | City of Port Lions.
Sand Point | City of Sand Point.
Seldovia | City of Seldovia.
Tatitlek | Native Village of Tatitlek.
Tyonek | Native Village of Tyonek.
Yakutat | City of Yakutat.

[FR Doc. 2011-2981 Filed 2-10-11; 8:45 am]

BILLING CODE 3510-22-P